DEPARTMENT OF COMMERCE

International Trade Administration

[A-570-863]

Honey From the People's Republic of China: Extension of Preliminary Results of Antidumping Duty Administrative Review and Antidumping Duty New Shipper Review

AGENCY: Import Administration, International Trade Administration, Department of Commerce.

SUMMARY: The Department of Commerce (“the Department”) is further extending the time limit for the preliminary results of the aligned administrative and new shipper reviews of honey from the People's Republic of China (“PRC”). These reviews cover the period December 1, 2005, through November 30, 2006.

EFFECTIVE DATE: November 16, 2007.

FOR FURTHER INFORMATION CONTACT: Bobby Wong or Michael Quigley, AD/CVD Operations, Office 9, Import Administration, International Trade Administration, U.S. Department of Commerce, 14th Street and Constitution Avenue, NW., Washington, DC 20230; telephone: (202) 482-0409 or (202) 482-4047, respectively.

SUPPLEMENTARY INFORMATION:

Background

On December 10, 2001, the Department published in the Federal Register an antidumping duty order covering honey from the PRC. See Notice of Amended Final Determination of Sales at Less Than Fair Value and Antidumping Duty Order; Honey from the People's Republic of China, 66 FR 63670 (December 10, 2001). On February 2, 2007, the Department published a notice of initiation of the administrative review of the antidumping duty order on honey from the PRC. See Initiation of Antidumping and Countervailing Duty Administrative Reviews and Request for Revocation in Part, 72 FR 5005 (February 2, 2007). On February 5, 2007, the Department published a notice of initiation of the antidumping new shipper review of honey from the PRC. See Honey from the People's Republic of China: Initiation of New Shipper Antidumping Duty Reviews, 72 FR 5265 (February 5, 2007). On February 23, 2007, the Department aligned the new shipper review and the administrative review. See Letter from Christopher Riker: Antidumping Duty New Shipper Review of Honey from the People's Republic of China (“PRC”): Alignment with Administrative Review, dated February 23, 2007.

On July 31, 2007, the Department published a notice extending the deadline of the preliminary results by 90 days, currently due no later than December 3, 2007. See Honey From the People's Republic of China: Extension of Preliminary Results of Antidumping Duty Administrative Review and Antidumping Duty New Shipper Review, 72 FR 41710 (July 31, 2007).

Statutory Time Limits

Section 751(a)(3)(A) of the Tariff Act of 1930, as amended (“the Act”), requires the Department to make a preliminary determination within 245 days after the last day of the anniversary month of an order for which a review is requested, and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of these administrative and new shipper reviews within the original time limit because the Department requires additional time to conduct verification and evaluate the most appropriate surrogate value data to use during the period of review. Therefore, the Department is extending the time limit for completion of the preliminary results of the aligned administrative and new shipper reviews by an additional 16 days. The preliminary results will now be due no later than December 17, 2007. The final results continue to be due 120 days after the publication of the preliminary results.

We are issuing and publishing this notice in accordance with sections 751(a)(3)(A) and 777(i) of the Act.

Dated: November 7, 2007.
Stephen J. Claeys,
Deputy Assistant Secretary for Import Administration.

[FR Doc. E7-22345 Filed 11-15-07; 8:45 am]

BILLING CODE 3510-DS-S